DEPARTMENT OF THE INTERIOR

Fish and Wildlife Service

[FWS-HQ-NCTC-2019-N153; FXGO16610900600 (201) FF09X35000; OMB Control Number 1018-New]

Agency Information Collection Activities; Native Youth Community Adaptation and Leadership Congress

AGENCY: Fish and Wildlife Service, Interior.

ACTION: Notice of information collection; request for comment.

SUMMARY: In accordance with the Paperwork Reduction Act of 1995, we, the U.S. Fish and Wildlife Service (Service), are proposing a new information collection in use without an OMB Control Number.

DATES: Interested persons are invited to submit comments on or before July 27, 2020.

ADDRESSES: Send your comments on the information collection request by mail to the Service Information Collection Clearance Officer, U.S. Fish and Wildlife Service, MS: JAO/1N (PERMA-PRB), 5275 Leesburg Pike, Falls Church, VA 22041-3803 (mail); or by email to Info_Coll@fws.gov. Please reference OMB Control Number 1018-NYCALC in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service offers eligible Native American, Alaskan Native, and Pacific Islander high school students the opportunity to apply for the Native Youth Community Adaptation and Leadership Congress (Congress). The mission of the Congress is to develop future conservation leaders with the skills, knowledge, and tools to address environmental change and conservation challenges to better serve their schools and home communities. The Congress supports and operates under the following authorities:

• Executive Order (E.O.) 13175, “Consultation and Coordination With Indian Tribal Governments” (November 6, 2000);

• E.O. 13515, “Increasing Participation of Asian Americans and Pacific Islanders in Federal Programs” (October 14, 2009);

• E.O. 13592, “Improving American Indian and Alaska Native Educational Opportunities and Strengthening Tribal Colleges and Universities” (December 2, 2011);

• Public Law 116-9, “John D. Dingell, Jr. Conservation, Management, and Recreation Act” (March 12, 2019);

• White House Memorandum on Government-to-Government Relationships with Native Governments (2004);

• Department of the Interior Secretarial Order (SO) 3206, “American Indian Tribal Rights, Federal-Tribal Trust Responsibilities, and the Endangered Species Act” (June 5, 1997);

• SO 3317, “DOI Policy: Department of the Interior Policy on Consultation with Indian Tribes” (December 1, 2011);

• SO 3335, “Reaffirmation of the Federal Trust Responsibility to Federally Recognized Indian Tribes and Individual Indian Beneficiaries” (2014); and

• Service Policy 520 FW 1, “Native American Policy” (January 20, 2016).

The weeklong environmental conference fosters an inclusive, meaningful, educational opportunity for aspiring Native youth leaders interested in addressing environmental issues facing Native American, Alaskan Native, and Pacific Islander communities. Eligible students—representing a diverse mix of Native communities from various geographic locations, both urban and rural—compete for the opportunity to represent their Native communities from across the country. The students learn about environmental change and conservation while strengthening their leadership skills for addressing conservation issues within their own Native communities.

Through a cooperative agreement with the New Mexico Wildlife Federation (NMWF), the Service solicits and evaluates applications from eligible students interested in applying for the program. The NMWF notifies successful applicants and arranges all travel for them. Information collected from each applicant via an online application administered by the NMWF includes:

• Applicant's full name, contact information, date of birth, and tribal/community affiliation;

• Emergency contact information for applicant;

• Name and contact information of applicant's mentor;

• Applicant's school name and address;

• Applicant's current grade in school;

• Applicant's participation in extracurricular activities, school clubs, or community organizations;

• Applicant's volunteer experience; and

• Applicant's accomplishments or awards received.

Each applicant also provides essay responses to questions concerning topics such as environmental issues affecting his or her home/tribal community, how or whether the environmental issues are addressed, and/or how, as a Native youth leader, he or she can lead the community in adapting to a changing environment. Successful applicants must also provide basic medical information to assure their health and safety while on site at the NCTC for the Congress. The on-site nurse maintains this strictly confidential information for use only during an emergency.

The following Federal partners assist and support the Service's administration of the Congress:

• The U.S. Department of the Interior—

—Bureau of Indian Affairs;

—Bureau of Land Management;

—National Park Service;

—United States Geological Survey;

• The U.S. Department of Agriculture—U.S. Forest Service;

• The U.S. Department of Commerce—National Oceanic and Atmospheric Administration;

• The Federal Emergency Management Agency; and

• The National Aeronautics and Space Administration.

Title of Collection: Native Youth Community Adaptation and Leadership Congress.

OMB Control Number: 1018-New.

Form Number: None.

Type of Review: Existing collection of information in use without an OMB Control Number.

Respondents/Affected Public: Eligible high school or college students interested in applying for the program.

Respondent's Obligation: Voluntary.

Frequency of Collection: On occasion.

Total Estimated Annual Nonhour Burden Cost: None.

Activity | Total annual responses | Completion time per response (hours) | Total annual burden hours
Application | 105 | 4 | 420
Student Medical Information | 100 | .5 | 50
Totals: | 205 |  | 470

An agency may not conduct or sponsor and a person is not required to respond to a collection of information unless it displays a currently valid OMB control number.

The authority for this action is the Paperwork Reduction Act of 1995 (44 U.S.C. 3501 et seq.).

Dated: May 20, 2020.
Madonna Baucum,
Information Collection Clearance Officer, U.S. Fish and Wildlife Service.

[FR Doc. 2020-11190 Filed 5-22-20; 8:45 am]

BILLING CODE 4333-15-P